DEPARTMENT OF TRANSPORTATION

Federal Aviation Administration

Notice of Approval of Finding of No Significant Impact—Record of Decision (FONSI/ROD) for Sioux Falls Regional Airport, Sioux Falls, South Dakota

AGENCY: Federal Aviation Administration (FAA), DOT.

ACTION: Notice.

SUMMARY: The FAA is announcing approval of Finding of No Significant Impact—Record of Decision (FONSI/ROD) for proposed development at the Sioux Falls Regional Airport, Sioux Falls, South Dakota. The FAA approved the FONSI/ROD on July 22, 2013.

SUPPLEMENTARY INFORMATION: The FONSI/ROD approved the Sponsor's proposed action for Runway 3-21 to meets FAA's geometric design standards for RSA and OFA. Additionally the purpose of the project is to mitigate for trees that penetrate the 50 to 1 approach surface to Runway 3 and trees that penetrate the associated 7 to 1 transitional surface on the Runway 3 end. These penetrations are defined as obstructions which can adversely affect the navigable airspace under the provisions of Federal Aviation Regulations (FAR) Part 77. The 50 to 1 approach surface and 7 to 1 transitional surface for Runway 3 are defined under FAR Part 77.19, Civil Airport Imaginary Surfaces.

The approved action is needed because Runway 3-21 does not currently meet FAA geometric design standards. Objects are located within the RSA and OFA that do not comply with RSA and OFA design standards found in FAA AC 150/5300-13A, Airport Design and FAA Order 5200.8, Runway Safety Area Program. All RSAs at federally obligated airports and all RSAs at airports certificated under 14 Code of Federal Regulations (CFR) Part 139 must conform to the standards contained in AC 150/5300-132. Objects in the RSA include a localizer antenna, perimeter road, and perimeter fence. Objects in the OFA include the above-mentioned RSA objects, the localizer antenna equipment building, and several trees on the adjacent Elmwood Golf Course. The proposed mitigation of obstructions to FAR Part 77 is needed in order to enhance the safety of aircraft operations for both the arrivals on Runway 3 and the departures on Runway 21.

The FONSI/ROD indicates the project is consistent with existing environmental policies and objectives as set forth in the National Environmental Policy Act (NEPA) of 1969, as amended and will not significantly affect the quality of the environment.

In reaching this decision, the FAA has given careful consideration to: 9a) the role of FSD in the national air transportation system, (b) aviation safety, and (c) preferences of the airport owner/operator, and (d) anticipated environmental impact.

DATES: This notice is effective August 8, 2013.

FOR FURTHER INFORMATION CONTACT: Ms. Lindsay Butler, Federal Aviation Administration, Great Lakes Regional Office, 2300 East Devon Avenue, Des Plaines, IL 60018. Telephone number: 847-294-7723.

Issued in Des Plaines, IL on July 30, 2013.
Jesse Carriger,
Manager, Planning/Programming Branch, FAA Great Lakes Region.

[FR Doc. 2013-19178 Filed 8-7-13; 8:45 am]

BILLING CODE 4910-13-P